DEPARTMENT OF COMMERCE

International Trade Administration

C-423-809

Stainless Steel Plate in Coils from Belgium: Notice of Extension of Time Limit for Preliminary Results of Countervailing Duty Administrative Review.

AGENCY: Import Administration, International Trade Administration, Department of Commerce.

ACTION: Notice of Extension of Time Limit for Preliminary Results of Countervailing Duty Administrative Review.

EFFECTIVE DATE: January 2, 2001.

FOR FURTHER INFORMATION CONTACT: Jarrod Goldfeder or Melani Miller at (202) 482-0189 and (202) 482-0116, respectively, Office of AD/CVD Enforcement I, Group I, Import Administration, International Trade Administration, U.S. Department of Commerce, 14th Street and Constitution Ave, NW., Washington, DC 20230.

The Applicable Statute

Unless otherwise indicated, all citations to the statute are references to the provisions effective January 1, 1995, the effective date of the amendments made to the Tariff Act of 1930 (the Act) by the Uruguay Round Agreements Act and all citations to the regulations are to 19 CFR part 351 (2000).

Time Limits

Statutory Time Limits

Section 751(a)(3)(A) of the Tariff Act of 1930, as amended (the Act), requires the Department to make a preliminary determination within 245 days after the last day of the anniversary month of an order for which a review is requested and a final determination within 120 days after the date on which the preliminary determination is published. However, if it is not practicable to complete the review within the time period, section 751(a)(3)(A) of the Act allows the Department to extend these deadlines to a maximum of 365 days and 180 days, respectively.

Background

On June 30, 2000, the Department published a notice of initiation of administrative review of the countervailing duty order on stainless steel plate in coils from Belgium, covering the period September 9, 1998, through December 31, 1999 (65 FR 41942).¹ The preliminary results for the countervailing duty administrative review of stainless steel plate in coils from Belgium are currently due no later than January 31, 2001.

¹ Due to a clerical error, the POI was accurately reflected in a subsequent Federal Register notice. See Initiation of Antidumping and Countervailing Duty Administrative Reviews, Requests for Revocation in Part and Deferral of Administrative Reviews, 65 FR 64662 (October 30, 2000).

Extension of Preliminary Results of Review

Because of the complexity of certain issues in this review (e.g., change in ownership, the significance of outstanding programs, and the investigation of new programs), it is not practicable to complete the preliminary results of this review within the original time limit. See Memorandum from Team to Richard W. Moreland, December 26, 2000. Therefore, the Department is extending the time limits for completion of the preliminary results by an additional 75 days, or until no later than April 16, 2001.

This extension is in accordance with section 751(a)(3)(A) of the Act.

Dated: December 22, 2000.
Richard W. Moreland,
Deputy Assistant Secretary for Import Administration, Group I.

[FR Doc. 00-33377 Filed 12-29-00; 8:45 am]

BILLING CODE 3510-DS-P